ENVIRONMENTAL PROTECTION AGENCY

[FRL-9980-10—Region 6]

Clean Air Act Operating Permit Program; Petitions for Objection to State Operating Permit for Motiva Enterprises LLC, Port Arthur Refinery, Jefferson County, Texas

AGENCY: Environmental Protection Agency (EPA).

ACTION: Notice of final Order on Petition for objection to Clean Air Act title V operating permit.

SUMMARY: The Environmental Protection Agency (EPA) Administrator signed an Order dated May 31, 2018, granting in part and denying in part a Petition dated November 8, 2016 from the Environmental Integrity Project, Sierra Club, and Air Alliance Houston. The Petition requested that the EPA object to a Clean Air Act (CAA) title V operating permit issued by the Texas Commission on Environmental Quality (TCEQ) to Motiva Enterprises LLC (Motiva) for its Port Arthur Refinery located in Jefferson County, Texas.

ADDRESSES: The EPA requests that you contact the individual listed in the FOR FURTHER INFORMATION CONTACT section to view copies of the final Order, the Petition, and other supporting information. You may review copies of the final Order, the Petition, and other supporting information at the EPA Region 6 Office, 1445 Ross Avenue, Dallas, Texas 75202-2733. You may view the hard copies Monday through Friday, from 9 a.m. to 3 p.m., excluding federal holidays. If you wish to examine these documents, you should make an appointment at least 24 hours before the visiting day. Additionally, the final Order and Petition are available electronically at: https://www.epa.gov/title-v-operating-permits/title-v-petition-database.

FOR FURTHER INFORMATION CONTACT: Kyndall Cox, EPA Region 6, (214) 665-8567, cox.kyndall@epa.gov.

SUPPLEMENTARY INFORMATION: The CAA affords EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issue arose after this period.

The EPA received the Petition from the Environmental Integrity Project, Sierra Club, and Air Alliance Houston dated November 8, 2016, requesting that the EPA object to the issuance of operating permit no. O1386, issued by TCEQ to Motiva's Port Arthur Refinery in Jefferson County, Texas. The Petition has six claims (1-6) that the proposed permit fails to require monitoring, recordkeeping and reporting sufficient to assure compliance with various emission limits and operational requirements for units authorized by New Source Review (NSR) permits and permits by rule (PBRs); one claim (7) that the proposed permit's incorporation by reference of permit by rule requirements fails to assure compliance with applicable requirements; and one claim (8) that the proposed permit fails to identify monitoring, recordkeeping and reporting for emission units subject to NSPS and NESHAP federal rules.

On May 31, 2018, the EPA Administrator issued an Order granting in part and denying in part the Petition. The Order explains the basis for EPA's decision.

Sections 307(b) and 505(b)(2) of the CAA provide that a petitioner may request judicial review of those portions of an order that deny issues in a petition. Any petition for review shall be filed in the United States Court of Appeals for the appropriate circuit no later than September 17, 2018.

Dated: July 3, 2018.
Anne L. Idsal,
Regional Administrator, Region 6.

[FR Doc. 2018-15205 Filed 7-16-18; 8:45 am]

BILLING CODE 6560-50-P